CONSUMER PRODUCT SAFETY COMMISSION

[Docket No. CPSC-2009-0073]

Agency Information Collection Activities; Submission for OMB Review; Comment Request; Virginia Graeme Baker Pool and Spa Safety Act; Compliance Form

AGENCY: Consumer Product Safety Commission.

ACTION: Notice.

SUMMARY: As required by the Paperwork Reduction Act of 1995, the Consumer Product Safety Commission (CPSC or Commission), announces that the Commission has submitted to the Office of Management and Budget (OMB) a request for extension of approval of a collection of information regarding a form used to verify whether pools and spas are in compliance with the Virginia Graeme Baker Pool and Spa Safety Act. The OMB previously approved the collection of information under OMB Control No. 3041-0142. On August 17, 2022, CPSC published a notice in the Federal Register announcing the agency's intent to seek this extension. CPSC received no comments in response to that notice. Therefore, by publication of this notice, the Commission announces that CPSC has submitted to the OMB a request for extension of approval of this collection of information.

DATES: Written comments on this request for extension of approval of information collection requirements should be submitted by November 28, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2009-0073.

FOR FURTHER INFORMATION CONTACT: Cynthia Gillham, Consumer Product Safety Commission, 4330 East West Highway, Bethesda, MD 20814; (301) 504-7991, or by email to: cgillham@cpsc.gov.

SUPPLEMENTARY INFORMATION: On August 17, 2022, CPSC published a notice in the Federal Register announcing the agency's intent to seek an extension for this information collection. 87 FR 50612. CPSC received no comments in response to that notice. Accordingly, CPSC seeks to renew the following currently approved collection of information:

Title: Virginia Graeme Baker Pool and Spa Safety Act Verification of Compliance Form.

OMB Number: 3041-0142.

Type of Review: Renewal of collection.

Frequency of Response: On occasion.

Affected Public: Public pools and spa facilities.

Estimated Number of Respondents: 50 pools or facilities.

Estimated Time per Response: CPSC staff or the designated State or local government official will take an estimated 3 hours to inspect a pool or spa facility.

Total Estimated Annual Burden: The total testing burden hours are 150 (50 inspections × 3 hours per inspection). We estimate there will be 50 inspections conducted throughout the fiscal year based on CPSC plans for inspections, past compliance rates and trends, as well as available staff resources. We estimate that hourly compensation for the time required for inspecting is $64.02 (U.S. Bureau of Labor Statistics, “Employer Costs for Employee Compensation,” March 2022, Table 4, total compensation for management, professional, and related workers in private service-producing industries: https://www.bls.gov/news.release/ecec.t04.htm). The total annual cost of time to inspect all facilities is estimated to be $9,603 ($64.02 × 150).

General Description of Collection

The Virginia Graeme Baker Pool and Spa Safety Act (Act), 15 U.S.C. 8001-8008, applies to public swimming pools and spas, and it requires that each swimming pool and spa drain cover manufactured, distributed, or entered into commerce in the United States shall conform to the entrapment protection standards of the ASME/ANSI A112.19.8 performance standard or any successor standard regulating such swimming pool or drain cover under section 1404(b) of the Act.

On August 5, 2011, the CPSC published a final rule incorporating by reference ANSI/APSP-16 2011 as the successor standard, effective September 6, 2011. 76 FR 47436. On May 24, 2019, the CPSC published a direct final rule incorporating by reference ANSI/APSP-16 2017 as the next successor standard. 84 FR 24021. The Act requires that, in addition to having the anti-entrapment devices or systems, each public pool and spa in the United States with a single main drain other than an unblockable drain shall be equipped with one or more of the following devices or systems designed to prevent entrapment by pool or spa drains: a safety vacuum release system, suction-limiting vent system, gravity drainage system, automatic pump shut-off system or drain disablement. The CPSC will collect information through the verification of compliance form to identify drain covers, pools, and spas that do not meet the performance requirements in ANSI/APSP-16 2017 and the Act. CPSC staff or the designated State or local government official will take approximately 3 hours to inspect the pool and fill out the checklist on the verification of compliance form. The 2022 VGBA Form they will use is available for viewing at https://www.regulations.gov under docket number, CPSC-2009-0073, “Supporting and Related Material.”

Alberta E. Mills,
Secretary, Consumer Product Safety Commission.

[FR Doc. 2022-23556 Filed 10-27-22; 8:45 am]

BILLING CODE 6355-01-P